DEPARTMENT OF TRANSPORTATION

Federal Aviation Administration

14 CFR Part 39

[Docket No. FAA-2022-0884; Project Identifier AD-2022-00749-T; Amendment 39-22129; AD 2022-15-09]

RIN 2120-AA64

Airworthiness Directives; The Boeing Company Airplanes

AGENCY: Federal Aviation Administration (FAA), DOT.

ACTION: Final rule; request for comments.

SUMMARY: The FAA is superseding Airworthiness Directive (AD) 2019-23-06, which applied to certain The Boeing Company Model 757-200, -200CB, and -300 series airplanes. AD 2019-23-06 required, depending on configuration, a general visual inspection for any previous repair, such as any reinforcing repair or local frame replacement repair, repetitive open hole high frequency eddy current (HFEC) inspections for any crack of the fuselage frame web fastener holes, on the left and right side of the airplane, and applicable on-condition actions. This AD was prompted by a determination that certain compliance times must be reduced. This AD requires the actions specified in AD 2019-23-06 with reduced compliances times for certain actions. The FAA is issuing this AD to address the unsafe condition on these products.

DATES: This AD is effective August 17, 2022.

The Director of the Federal Register approved the incorporation by reference of a certain publication listed in this AD as of August 17, 2022.

The Director of the Federal Register approved the incorporation by reference of certain other publications listed in this AD as of January 13, 2020 (84 FR 67179, December 9, 2019).

The FAA must receive comments on this AD by September 16, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Boeing service information identified in this final rule, contact Boeing Commercial Airplanes, Attention: Contractual & Data Services (C&DS), 2600 Westminster Blvd., MC 110-SK57, Seal Beach, CA 90740-5600; telephone 562-797-1717; internet https://www.myboeingfleet.com.

For Aviation Partners Boeing service information identified in this final rule, contact Aviation Partners Boeing, 2811 South 102nd St., Suite 200, Seattle, WA 98168; phone: 206-830-7699; fax: 206-767-0535; email: leng@aviationpartners.com; internet: https://www.aviationpartnersboeing.com. x

You may view this service information at the FAA, Airworthiness Products Section, Operational Safety Branch, 2200 South 216th St., Des Moines, WA. For information on the availability of this material at the FAA, call 206-231-3195. It is also available at https://www.regulations.gov by searching for and locating Docket No. FAA-2022-0884.

Examining the AD Docket

You may examine the AD docket at https://www.regulations.gov by searching for and locating Docket No. FAA-2022-0884; or in person at Docket Operations between 9 a.m. and 5 p.m., Monday through Friday, except Federal holidays. The AD docket contains this final rule, any comments received, and other information. The street address for the Docket Operations is listed above.

FOR FURTHER INFORMATION CONTACT: Peter Jarzomb, Aerospace Engineer, Airframe Section, FAA, Los Angeles ACO Branch, 3960 Paramount Boulevard, Lakewood, CA 90712-4137; phone: 562-627-5234; email: peter.jarzomb@faa.gov.

SUPPLEMENTARY INFORMATION:

Background

The FAA issued AD 2019-23-06, Amendment 39-19800 (84 FR 67179, December 9, 2019) (AD 2019-23-06), for certain The Boeing Company Model 757-200, -200CB, and -300 series airplanes. AD 2019-23-06 required, depending on configuration, a general visual inspection for any previous repair, such as any reinforcing repair or local frame replacement repair, repetitive open HFEC inspections for any crack of the fuselage frame web fastener holes, on the left and right side of the airplane, and applicable on-condition actions. AD 2019-23-06 was prompted by reports of cracks initiating in the fuselage frame web at body station (STA) 1640. The FAA issued AD 2019-23-06 to address cracks initiating in the fuselage frame web at STA 1640, which, if not detected and corrected, could result in reduced structural integrity of the airplane.

Actions Since AD 2019-23-06 Was Issued

Since the FAA issued AD 2019-23-06, severed fuselage frames were detected on three Model 757-200 airplanes before the 5,600 flight cycles compliance time allowed in AD 2019-23-06 for airplanes that have accomplished certain inspections. These incidents were detected on airplanes that had accumulated between 2,579 flight cycles and 3,311 flight cycles since accomplishing those inspections with no crack findings. Boeing investigated the compliance times for the other affected airplane models and determined that the inspection interval for Model 757-200 airplanes converted to a special freighter (SF) configurations is also inadequate to detect cracks before they reach a critical length. Based on these findings, it was determined that certain compliance times must be revised to address the unsafe condition.

For airplanes on which Aviation Partners Boeing (APB) blended or scimitar blended winglets are installed in accordance with Supplemental Type Certificate (STC) ST01518SE, APB and Boeing determined that the compliance times must also be reduced for the open HFEC inspection of the STA 1640 fuselage frame web fastener holes common to the S-14L and S-14R intercostal tee clip. In addition, it was determined that airplanes that have been converted from a passenger to freighter configuration using VT Mobile Aerospace Engineering (MAE) Inc. STC ST03562AT must use the reduced compliance times because the configuration is identical to airplanes converted to The Boeing Company Model 757-200 special freighter airplanes using Boeing STC ST00916WI-D.

FAA's Determination

The FAA is issuing this AD because the agency has determined the unsafe condition described previously is likely to exist or develop in other products of the same type design.

Related Service Information Under 1 CFR Part 51

The FAA reviewed Boeing Alert Requirements Bulletin 757-53A0112 RB, Revision 1, dated June 17, 2022. This service information specifies procedures for, depending on configuration, a general visual inspection for any previous repair, such as any reinforcing repair or local frame replacement repair, repetitive open hole HFEC inspections for any crack of the fuselage frame web fastener holes, on the left and right side of the airplane, and applicable on-condition actions. On-condition actions include installation of fasteners, oversizing of fastener holes, and repair. These documents are distinct since they apply to different airplane models in different configurations.

This AD also requires Aviation Partners Boeing Alert Service Bulletin AP757-53-002, Revision 3 dated August 14, 2019; and Boeing Alert Requirements Bulletin 757-53A0112 RB, dated November 16, 2018; which the Director of the Federal Register approved for incorporation by reference as of January 13, 2020 (84 FR 67179, December 9, 2019).

This service information is reasonably available because the interested parties have access to it through their normal course of business or by the means identified in the ADDRESSES section.

AD Requirements

Although this AD does not explicitly restate the requirements of AD 2019-23-06, this AD retains all of the requirements of AD 2019-23-06. Those requirements are referenced in the service information identified previously, which, in turn, is referenced in paragraph (g) of this AD. This AD reduces certain compliance times for certain actions. This AD requires accomplishment of the actions identified in the service information described previously, except for any differences identified as exceptions in the regulatory text of this AD.

For information on the procedures and compliance times, see Boeing Alert Requirements Bulletin 757-53A0112 RB, Revision 1, dated June 17, 2022, at https://www.regulations.gov by searching for and locating Docket No. FAA-2022-0884.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the FAA received reports of severed fuselage frames at STA 1640 detected on airplanes prior to the 5,600 flight cycles compliance time allowed in AD 2019-23-06 for airplanes that have accomplished certain inspections. Cracks initiating in the fuselage frame web at STA 1640, if not detected and corrected, could result in reduced structural integrity of the airplane and loss of controllability of the airplane. Furthermore, failure of the No. 4 passenger door surround structure (frame) at STA 1640 due to cracks could lead to explosive decompression. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include “Docket No. FAA-2022-0884 and Project Identifier AD-2022-00749-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Peter Jarzomb, Aerospace Engineer, Airframe Section, FAA, Los Angeles ACO Branch, 3960 Paramount Boulevard, Lakewood, CA 90712-4137; phone: 562-627-5234; email: peter.jarzomb@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 419 airplanes of U.S. registry. The FAA estimates the following costs to comply with this AD:

Estimated Costs
Action | Labor cost | Parts cost | Cost per product | Cost on U.S. operators
General Visual Inspection (retained actions from AD 2019-23-06) | 1 work-hours × $85 per hour = $85 | $0 | $85 | $35,615.
Open Hole HFEC Inspection (retained actions from AD 2019-23-06) | 35 work-hours × $85 per hour = $2,975 per inspection cycle | 0 | $2,975 per inspection cycle | $1,246,525 per inspection cycle.

The FAA estimates the following costs to do any necessary installation of fasteners and oversizing of fastener holes that would be required based on the results of the inspection. The FAA has no way of determining the number of aircraft that might need these installations:

On-Condition Costs
Action | Labor cost | Parts cost | Cost per product
Installation of fasteners and oversizing of fastener holes | 1 work-hour × $85 per hour = $85 | $0 | $85

The FAA has received no definitive data on which to base the cost estimates for the repairs specified in this AD.

The reduced compliance times specified in this AD add no additional economic burden.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-23-06, Amendment 39-19800 (84 FR 67179, December 9, 2019); and

b. Adding the following new AD:

2022-15-09 The Boeing Company: Amendment 39-22129; Docket No. FAA-2022-0884; Project Identifier AD-2022-00749-T.

(a) Effective Date

This airworthiness directive (AD) is effective August 17, 2022.

(b) Affected ADs

This AD replaces AD 2019-23-06, Amendment 39-19800 (84 FR 67179, December 9, 2019) (AD 2019-23-06).

(c) Applicability

This AD applies to The Boeing Company Model 757-200, -200CB, and -300 series airplanes, certificated in any category, as identified in Boeing Alert Requirements Bulletin 757-53A0112 RB, Revision 1, dated June 17, 2022.

(d) Subject

Air Transport Association (ATA) of America Code 53 Fuselage.

(e) Unsafe Condition

This AD was prompted by reports of cracks initiating in the fuselage frame web at body station (STA) 1640 and a determination that certain compliance times must be reduced due to severed fuselage frames reported at earlier flight cycles. The FAA is issuing this AD to address cracks initiating in the fuselage frame web at STA 1640, which, if not detected and corrected, could result in reduced structural integrity of the airplane and loss of controllability of the airplane. Furthermore, failure of the No. 4 passenger door surround structure (frame) at STA 1640 due to cracks could lead to explosive decompression.

(f) Compliance

Comply with this AD within the compliance times specified, unless already done.

(g) Required Actions

(1) For all airplanes except those identified in paragraphs (g)(2) through (4) of this AD: Except as specified by paragraph (h) of this AD, at the applicable times specified in the “Compliance” paragraph of Boeing Alert Requirements Bulletin 757-53A0112 RB, Revision 1, dated June 17, 2022, do all applicable actions identified in, and in accordance with, the Accomplishment Instructions of Boeing Alert Requirements Bulletin 757-53A0112 RB, Revision 1, dated June 17, 2022.

Note 1 to paragraph (g): Guidance for accomplishing the actions required by this AD can be found in Boeing Alert Service Bulletin 757-53A0112, Revision 1, dated June 17, 2022, which is referred to in Boeing Alert Requirements Bulletin 757-53A0112 RB, Revision 1, dated June 17, 2022.

(2) Except as specified by paragraph (h) of this AD: For airplanes on which Aviation Partners Boeing blended or scimitar blended winglets are installed in accordance with Supplemental Type Certificate (STC) ST01518SE, at the applicable times specified in paragraph 1.E., “Compliance” of Aviation Partners Boeing Alert Service Bulletin AP757-53-002, Revision 3, dated August 14, 2019, do all applicable actions identified in, and in accordance with, the Accomplishment Instructions of Boeing Alert Requirements Bulletin 757-53A0112 RB, dated November 16, 2018.

(3) Except as specified by paragraph (h) of this AD: For Group 1 airplanes that have been converted from a passenger to freighter configuration using VT Mobile Aerospace Engineering (MAE) Inc. STC ST03562AT, at the applicable times specified for Group 2 airplanes in the “Compliance” paragraph of Boeing Alert Requirements Bulletin 757-53A0112 RB, Revision 1, dated June 17, 2022, do all applicable Group 2 actions, as identified in, and in accordance with, the Accomplishment Instructions of Boeing Alert Requirements Bulletin 757-53A0112 RB, Revision 1, dated June 17, 2022.

(4) Except as specified by paragraph (h) of this AD: For Group 4 airplanes that have been converted from a passenger to freighter configuration using VT MAE Inc. STC ST03562AT, at the applicable times specified for Group 5 airplanes in the “Compliance” paragraph of Boeing Alert Requirements Bulletin 757-53A0112 RB, Revision 1, dated June 17, 2022, do all applicable Group 5 actions as identified in, and in accordance with, the Accomplishment Instructions of Boeing Alert Requirements Bulletin 757-53A0112 RB, Revision 1, dated June 17, 2022.

(h) Exceptions to Service Information Specifications

(1) Where the Condition and Compliance Time columns of the tables in the “Compliance” paragraph of Boeing Alert Requirements Bulletin 757-53A0112 RB, Revision 1, dated June 17, 2022, use the phrase “the original issue date of Requirements Bulletin 757-53A0112 RB,” this AD requires using “January 13, 2020 (the effective date of AD 2019-23-06).”

(2) Where the Condition and Compliance Time columns of the tables in the “Compliance” paragraph of Boeing Alert Requirements Bulletin 757-53A0112 RB, Revision 1, dated June 17, 2022, use the phrase “the Revision 1 date of Requirements Bulletin 757-53A0112 RB,” this AD requires using “the effective date of this AD.”

(3) Where Boeing Alert Requirements Bulletin 757-53A0112 RB, Revision 1, dated June 17, 2022, specifies contacting Boeing for repair instructions or for alternative inspections: This AD requires doing the repair, or doing the alternative inspections and applicable on-condition actions using a method approved in accordance with the procedures specified in paragraph (j) of this AD.

(4) Where the Condition and Compliance Time columns of the tables in the “Compliance” paragraph of Aviation Partners Boeing Alert Service Bulletin AP757-53-002, Revision 3, dated August 14, 2019, use the phrase “the original issue date of this service bulletin,” this AD requires using “January 13, 2020 (the effective date of AD 2019-23-06).”

(5) Where Aviation Partners Boeing Alert Service Bulletin AP757-53-002, Revision 3, dated August 14, 2019, specifies contacting Boeing for repair instructions or for alternative inspections: This AD requires doing the repair, or doing the alternative inspections and applicable on-condition actions using a method approved in accordance with the procedures specified in paragraph (j) of this AD.

(6) For Group 1 airplanes, as identified in Aviation Partners Boeing Alert Service Bulletin AP757-53-002, Revision 3, dated August 14, 2019, with less than 34,500 total flight cycles as of the effective date of this AD that have accomplished any eddy current inspection specified in Revision 1 or Revision 2 of Aviation Partners Boeing Alert Service Bulletin AP757-53-001 with no cracking found and have not accomplished any inspection specified in Revision 2 or Revision 3 of Aviation Partners Boeing Alert Service Bulletin AP757-53-002: The compliance time for the initial open hole high frequency eddy current (HFEC) inspection of the STA 1640 fuselage frame web fastener holes common to the S-14L and S-14R intercostal tee clip for any crack is at the applicable time specified in paragraph (h)(6)(i) or (ii) of this AD, whichever occurs later.

(i) Within 1,200 flight cycles after the most recent inspection was done in accordance with Revision 1 or Revision 2 of Aviation Partners Boeing Alert Service Bulletin AP757-53-001.

(ii) Within 500 flight cycles after the effective date of this AD not to exceed 5,600 flight cycles after the most recent inspection was done in accordance with Revision 1 or Revision 2 of Aviation Partners Boeing Alert Service Bulletin AP757-53-001.

(7) For Group 1 airplanes, as identified in Aviation Partners Boeing Alert Service Bulletin AP757-53-002, Revision 3, dated August 14, 2019, with 34,500 total flight cycles or more as of the effective date of this AD that have accomplished any eddy current inspection in accordance with Revision 1 or Revision 2 of Aviation Partners Boeing Alert Service Bulletin AP757-53-001 with no cracking found and have not accomplished any inspection specified in Revision 2 or Revision 3 of Aviation Partners Boeing Alert Service Bulletin AP757-53-002: The compliance time for the initial open hole HFEC inspection of the STA 1640 fuselage frame web fastener holes common to the S-14L and S-14R intercostal tee clip for any crack is at the applicable time specified in paragraph (h)(7)(i) or (ii) of this AD, whichever occurs later:

(i) Within 1,200 flight cycles after the most recent eddy current inspection was done in accordance with Revision 1 or Revision 2 of Aviation Partners Boeing Alert Service Bulletin AP757-53-001.

(ii) Prior to the accumulation of 35,000 total flight cycles, or within 30 days after the effective date of this AD, whichever occurs later.

(8) For Group 3 airplanes, as identified in Aviation Partners Boeing Alert Service Bulletin AP757-53-002, Revision 3, dated August 14, 2019, that as of the effective date of this AD have accomplished any eddy current inspection in accordance with Revision 1 or Revision 2 of Aviation Partners Boeing Alert Service Bulletin AP757 53-001, with no cracking found: The compliance time for the initial open hole HFEC inspection of the STA 1640 fuselage frame web fastener holes common to the S-14L and S-14R intercostal tee clip for any crack is at the applicable time specified in paragraph (h)(8)(i) or (ii) of this AD, whichever occurs later.

(i) Within 1,350 flight cycles after the most recent eddy current inspection was done as specified in Revision 1 or Revision 2 of Aviation Partners Boeing Alert Service Bulletin AP757-53-001.

(ii) Within 500 flight cycles after the effective date of this AD not to exceed 3,250 flight cycles after the most recent inspection was done in accordance with Revision 1 or Revision 2 of Aviation Partners Boeing Alert Service Bulletin AP757-53-001.

(i) Credit for Previous Actions

(1) This paragraph provides credit for actions specified in paragraphs (g)(1), (3), and (4) of this AD, if those actions were performed before the effective date of this AD using Boeing Alert Requirements Bulletin 757-53A0112 RB, dated November 16, 2018.

(2) This paragraph provides credit for the actions specified in paragraph (g)(2) of this AD, if those actions were performed before the effective date of this AD using Aviation Partners Boeing Alert Service Bulletin AP757-53-002, Revision 2, dated April 11, 2019.

(j) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k)(1) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved for AD 2019-23-06 are approved as AMOCs for the corresponding provisions of Boeing Alert Requirements Bulletin 757-53A0112 RB, dated November 16, 2018; and Aviation Partners Boeing Alert Service Bulletin AP757-53-002, Revision 3, dated August 14, 2019; that are required by paragraph (g)(2) of this AD.

(5) AMOCs approved for AD 2019-23-06 are approved as AMOCs for the corresponding provisions of Boeing Alert Requirements Bulletin 757-53A0112 RB, Revision 1, dated June 17, 2022, that are required by paragraphs (g)(1), (3), and (4) of this AD, except AMOCs for airplanes converted to the special freighter (SF) configuration by Boeing STC ST00916WI-D or from a passenger to freighter configuration using VT MAE Inc. STC ST03562AT are not approved as AMOCs for this AD.

(k) Related Information

(1) For more information about this AD, contact Peter Jarzomb, Aerospace Engineer, Airframe Section, FAA, Los Angeles ACO Branch, 3960 Paramount Boulevard, Lakewood, CA 90712-4137; phone: 562-627-5234; email: peter.jarzomb@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

(3) Service information identified in this AD that is not incorporated by reference is available at the addresses specified in paragraphs (l)(5), (6), and (7) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on August 17, 2022.

(i) Boeing Alert Requirements Bulletin 757-53A0112 RB, Revision 1, dated June 17, 2022.

(ii) [Reserved]

(4) The following service information was approved for IBR on January 13, 2020 (84 FR 67179, December 9, 2019).

(i) Aviation Partners Boeing Alert Service Bulletin AP757-53-002, Revision 3 dated August 14, 2019.

(ii) Boeing Alert Requirements Bulletin 757-53A0112 RB, dated November 16, 2018.

(5) For Boeing service information identified in this AD, contact Boeing Commercial Airplanes, Attention: Contractual & Data Services (C&DS), 2600 Westminster Blvd., MC 110-SK57, Seal Beach, CA 90740-5600; telephone 562-797-1717; internet https://www.myboeingfleet.com.

(6) For Aviation Partners Boeing service information identified in this AD, contact Aviation Partners Boeing, 2811 South 102nd St., Suite 200, Seattle, WA 98168; phone: 206-830-7699; fax: 206-767-0535; email: leng@aviationpartners.com; internet: https://www.aviationpartnersboeing.com.

(7) You may view this service information at the FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: https://www.archives.gov/federal-register/cfr/ibr-locations.html.

Issued on July 15, 2022.
Gaetano A. Sciortino,
Deputy Director for Strategic Initiatives, Compliance & Airworthiness Division, Aircraft Certification Service.

[FR Doc. 2022-16605 Filed 7-29-22; 4:15 pm]

BILLING CODE 4910-13-P